DEPARTMENT OF THE TREASURY

Internal Revenue Service

Open Meeting of the Taxpayer Advocacy Panel, E-Filing Issue Committee

ACTION: Notice.

SUMMARY: An open meeting of the Taxpayer Advocacy Panel, E-Filing Issue Committee will be conducted via teleconference.

DATES: The meeting will be held Thursday, December 12, 2002.

FOR FURTHER INFORMATION CONTACT: Mary Ann Delzer at 1-888-912-1227 or 414-297-1604.

SUPPLEMENTARY INFORMATION: Notice is hereby given pursuant to section 10(a)(2) of the Federal Advisory Committee Act, 5 U.S.C. App. (1988) that an open meeting of the Taxpayer Advocacy Panel, E-Filing Issue Committee will be held, Thursday, December 12, 2002, from 3 p.m. to 5 p.m. eastern time via telephone conference call. The Taxpayer Advocacy Panel is soliciting public comment, ideas, and suggestions on improving customer service at the Internal Revenue Service. You can submit written comments to the panel by faxing to (414) 297-1623, or by mail to Taxpayer Advocacy Panel, Mail Stop 1006 MIL, 310 West Wisconsin Avenue, Milwaukee, WI 53203-2221. Public comments will also be welcome during the meeting. Please contact Mary Ann Delzer at 1-888-912-1227, or 414-297-1604 for dial-in information.

The agenda will include the following: outreach planning and discussion of E-file use by small businesses.

Note: Last minute changes to the agenda are possible and could prevent effective advance notice.

Dated: November 13, 2002.
Cathy Vanhorn,
Director, Communication & Liasion.

[FR Doc. 02-29920 Filed 11-22-02; 8:45 am]

BILLING CODE 4830-01-P